DEPARTMENT OF HOUSING AND URBAN DEVELOPMENT

[Docket No. FR-5200-FA-22A]

Announcement of Funding Awards for Fiscal Year 2008; Doctoral Dissertation Research Grant Program

AGENCY: Office of the Assistant Secretary for Policy Development and Research, HUD.

ACTION: Announcement of funding awards.

SUMMARY: In accordance with Section 102(a)(4)(C) of the Department of Housing and Urban Development Reform Act of 1989, this document notifies the public of funding awards for the Fiscal Year (FY) 2008 Doctoral Dissertation Research Grant (DDRG) Program. The purpose of this document is to announce the names and addresses of the award winners and the amount of the awards to be used to help doctoral candidates complete dissertations on topics that focus on housing and urban development issues.

FOR FURTHER INFORMATION CONTACT: Susan Brunson, Office of University Partnerships, U.S. Department of Housing and Urban Development, Room 8106, 451 Seventh Street, SW., Washington, DC 20410, Telephone (202) 402-3852. To provide service for persons who are hearing-or speech-impaired, this number may be reached via TTY by Dialing the Federal Information Relay Service on (800) 877-8339 or (202) 708-1455. (Telephone numbers, other than “800” TTY numbers, are not toll free).

SUPPLEMENTARY INFORMATION: The DDRG Program was created as a means of expanding the number of researchers conducting research on subjects of interest to HUD. Doctoral candidates can receive grants of up to $25,000 to complete work on their dissertations. Grants are awarded for a two-year period.

The Office of University Partnerships under the Assistant Secretary for Policy Development and Research (PD&R) administers this program. In addition to this program, the Office of University Partnerships administers HUD's ongoing grant programs to institutions of higher education as well as creates initiatives through which colleges and universities can bring their traditional missions of teaching, research, service, and outreach to bear on the pressing local problems in their communities.

The Catalog of Federal Domestic Assistance number for this program is 14.517. On May 12, 2008 (Vol. 73, No. 92), HUD published a Notice of Funding Availability (NOFA) announcing the availability of $300,000 in FY 2008 funds for the DDRG Program. The Department reviewed, evaluated and scored the applications received based on the criteria in the NOFA. As a result, HUD has funded the applications announced below, and in accordance with Section 102(a)(4)(C) of the Department of Housing and Urban Development Reform Act of 1989 (103 Stat. 1987, U.S.C. 3545). More information about the winners can be found at http://www.oup.org, the Department is publishing the names, addresses, and amounts of those awards as shown in Appendix A.

Dated: October 14, 2008.
Darlene F. Williams,
Assistant Secretary for Policy Development and Research.

Appendix A—Fiscal Year 2008 Funding Awards for Doctoral Dissertation Research Grant Program
Recipient | City/State/Zip Code | Award
Loyola University Chicago, Ms. Caroline Kappers, Department of Sociology, 6525 North Sheridan Road, Student: Meghan A. Burke | Chicago, IL 60626 | $18,744
New York University, Dr. Ingrid Gould Ellen, Wagner Graduate School, 665 Broadway, Suite 801, Student: Martha Galvez | New York, NY 10012 | 25,000
The University of Chicago, Ms. Gilda Reyes, Department of Sociology, 5801 South Ellis Avenue, Student: Danielle Wallace | Chicago, IL 60637 | 25,000
The University of Tennessee, Ms. Kay Cogley, Children's Mental Health Services, 1534 White Avenue, Student: Courtney Cronley | Knoxville, TN 37996-1529 | 25,000
Georgia State University Research Foundation, Inc., Dr. Charles Jaret, Department of Sociology, PO Box 3999, Student: Barbara Combs | Atlanta, GA 30302-3999 | 12,635
New York University, Dr. Ingrid Gould Ellen, Wagner Graduate School, 665 Broadway, Suite 801, Student: Rachel Meltzer | New York, NY 10012 | 24,012
The Regents of the University of California, Ms. Christine Luppino, Sponsored Projects Office, 2150 Shattuck Avenue, Suite 313, Student: Amanda Lehning | Berkeley, CA 94704-5940 | 25,000
The Trustees of Columbia University in the City of New York, Ms. Patricia Valencia, Department of Urban Planning, Mail Code 2205, Room 254 Engineering Terrace, 1210 Amsterdam Avenue, Student: Constantine Kontokosta | New York, NY 10027 | 24,585
Southern New Hampshire University, Dr. Yoel Camayd-Freixas, SCED, 2500 North River Road, Student: Richard Koenig | Manchester, NH 03106-1045 | 25,000
The Board of Trustees of the University of Illinois, Dr. Mark Mattaini, JACSW, 809 South Marshfield Avenue, 502 MB, M/C 551, Student: Julia Wesley | Chicago, IL 60612-7205 | 25,000
University of North Carolina at Chapel Hill, Mr. Hamilton Brown, Office of Sponsored Research, 104 Airport Drive, Suite 2200, Student: Jonathan Spader | Chapel Hill, NC 27599-1350 | 25,000
University of Pennsylvania, Ms. Pamela Caudill, Social Policy and Practice, Office of Research Services, 3451 Walnut Street, Student: Kristie Thomas | Philadelphia, PA 19104-6205 | 25,000
University of Oregon, Ms. Kelly Miles, Office of Research Services and Administration, 5219 University of Oregon, Student: Timothy Haney | Eugene, OR 97403-5219 | 20,024

[FR Doc. E8-25046 Filed 10-21-08; 8:45 am]

BILLING CODE 4210-67-P